DEPARTMENT OF HOMELAND SECURITY

Coast Guard

[CGD14-05-002]

Implementation of Sector Guam

AGENCY: Coast Guard, DHS.

ACTION: Notice of organizational change.

SUMMARY: The Coast Guard announces the establishment of Sector Guam. Sector Guam is an internal reorganization that combines Marianas Section and Marine Safety Office Guam into a single command. The Coast Guard has established a continuity of operations whereby all previous practices and procedures will remain in effect until superseded by an authorized Coast Guard official or document.

DATES: The organizational changes described in this notice became effective December 30, 2004.

ADDRESSES: Documents indicated in this preamble as being available in the docket are part of docket CGD14-05-002 and are available for inspection or copying at Commander (dl), Fourteenth Coast Guard District, PJKK Federal Building, 300 Ala Moana Boulevard, Room 9-216, Honolulu, Hawaii, between 8 a.m. and 4 p.m., Monday through Friday, except Federal holidays.

FOR FURTHER INFORMATION CONTACT: Mr. Terry Rice, Fourteenth District Prevention Division, at (808) 541-2114.

SUPPLEMENTARY INFORMATION:

Discussion of Notice

Sector Guam's address is PSC 455 Box 176, FPO AP 96540-1056. Sector Guam contains a single Command Center located at Victor Wharf, U.S. Naval Activities Marianas. Sector Guam is composed of a Response Department, a Prevention Department, and a Logistics Department. Effective December 30, 2004, all existing missions and functions performed by Marianas Section and Marine Safety Office Guam were consolidated and are now performed by Sector Guam. Marianas Section and Marine Safety Office Guam no longer exist as organizational entities.

Sector Guam is responsible for all Coast Guard Missions in the same zone as the one described in 33 CFR part 3, subpart 3.70-15(b). Coast Guard District Fourteen maintains Search and Rescue Mission Coordinator responsibilities in all other portions of its area of responsibility not specifically designated within the scope of Sector Honolulu or Sector Guam.

The Sector Guam Commander is vested with all the rights, responsibilities, duties, and authority of a Group Commander and Commanding Officer, Marine Safety Office, as provided in Coast Guard regulations, and is the successor in command to the Commanding Officer of Marine Safety Office Guam and the Commander, Marianas Section. The Sector Guam Commander is designated: (a) Captain of the Port (COTP) for the Guam COTP zone; (b) Federal Maritime Security Coordinator (FMSC) for Guam and the Commonwealth of the Northern Mariana Islands; (c) Federal On Scene Coordinator (FOSC) for the Guam COTP zone, consistent with the National Contingency Plan; and (d) Officer in Charge of Marine Inspection (OCMI) for the Guam Marine Inspection Zone. The Deputy Sector Commander is designated alternate COTP, FMSC, FOSC, and OCMI. A continuity of operations order has been issued ensuring that all previous Section Marianas and Marine Safety Office Guam practices and procedures will remain in effect until superseded by Commander, Sector Guam. This continuity of operations order addresses existing COTP regulations, orders, directives, and policies.

The following information is a list of updated command titles, addresses and points of contact to facilitate requests from the public and assist with entry into security or safety zones:

Name: Sector Guam.

Address: Commander, U.S. Coast Guard Sector Guam, PSC 455 Box 176, FPO AP 96540-1056.

Contact Information: The general phone number for the Sector is (671) 339-2001. The following are specific points of contacts and their extensions—

Deputy Sector Commander: extension 109;

Chief, Prevention Department: extension 160;

Chief, Response Department: extension 112;

Chief, Logistics Department: extension 105;

Contingency Planning and Force Readiness Staff: extension 160;

Sector Command Center: extensions 112 and 113.

Dated: November 3, 2005.
P.F. Zukunft,
Captain, U.S. Coast Guard, Acting Commander, Fourteenth Coast Guard District.

[FR Doc. 05-22825 Filed 11-17-05; 8:45 am]

BILLING CODE 4910-15-P